DEPARTMENT OF HOMELAND SECURITY

Federal Emergency Management Agency

[Docket ID FEMA-2025-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: David Bascom, Acting Director, Engineering and Modeling Division, Risk Analysis, Planning & Information Directorate, FEMA, 400 C Street SW, Washington, DC 20472, or (email) david.bascom@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

The current effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Jeffrey Jackson,
Deputy Assistant Administrator, Federal Insurance Directorate, Resilience, Federal Emergency Management Agency, Department of Homeland Security.

State and county | Location and case No. | Chief executive officer of community | Community map repository | Date of modification | Community No.
Alabama: Mobile (FEMA Docket No.: B-2517). | Unincorporated areas of Mobile County (24-04-5681P). | Connie Hudson Chair, Mobile County Commission, 205 Government Street, Mobile, AL 36644. | Mobile County Health Department, 1110 Schillinger Road North, Suite 100, Mobile, AL 36608 | Jun. 5, 2025 | 015008
Florida:
Lee (FEMA Docket No.: B-2510). | City of Bonita Springs (24-04-3955P). | The Honorable Rick Steinmeyer, Mayor, City of Bonita Springs, 9101 Bonita Beach Road, Bonita Springs, FL 34135. | City Hall, 9101 Bonita Beach Road, Bonita Springs, FL 34135. | May 12, 2025 | 120680
Lee (FEMA Docket No.: B-2510). | City of Fort Myers (24-04-2834P). | Marty Lawing, Manager, City of Fort Myers, 2200 2nd Street, Fort Myers, FL 33901. | City Hall, 2200 2nd Street, Fort Myers, FL 33901. | May 12, 2025 | 120680
Monroe (FEMA Docket No.: B-2501). | Unincorporated areas of Monroe County (25-04-0131P). | The Honorable Holly Merrill Raschein, Mayor, Monroe County Board of Commissioners, 102050 Overseas Highway, Suite 234, Key Largo, FL 33037. | Monroe County Building Department, 2798 Overseas Highway, Suite 300, Marathon, FL 33050. | May 2, 2025 | 125129
Monroe (FEMA Docket No.: B-2506). | Unincorporated areas of Monroe County (25-04-0582P). | The Honorable Jim Scholl, Mayor, Monroe County Board of Commissioners, 102050 Overseas Highway, Suite 234, Key Largo, FL 33037. | Monroe County Building Department, 2798 Overseal Highway, Suite 300, Marathon, FL 33050. | May 12, 2025 | 125129
Florida:
St. Johns (FEMA Docket No.: B-2506). | Unincorporated areas of St. Johns County (24-04-1214P). | Joy Andrews, Administrator, St. Johns County, 500 San Sebastian View, St. Augustine, FL 32084. | St. Johns County Administration Building, 500 San Sebastian View, St. Augustine, FL 32084. | May 16, 2025 | 125147
Sumpter (FEMA Docket No.: B-2506). | City of Wildwood (23-04-2629P). | Jason F. McHugh, Manager, City of Wildwood, 100 North Main Street, Wildwood, FL 34785. | Sumter County Administration Building, 7375 Powell Road, Wildwood, FL 34785. | May 23, 2025 | 120299
Sumpter (FEMA Docket No.: B-2506). | Unincorporated areas of Sumpter County (23-04-2629P). | Donald Wiley, Chair, Sumter County Board of Commissioners, 7375 Powell Road, Wildwood, FL 34785. | Sumter County Administration Building, 7375 Powell Road, Wildwood, FL 34785. | May 23, 2025 | 120296
Maine: Cumberland (FEMA Docket No.: B-2506). | Town of Scarborough (25-01-0009P). | April Sither, Chair, Town of Scarborough Council, P.O. Box 360, Scarborough, ME 04070. | Planning and Codes Department, 259 U.S. Highway 1, Scarborough, ME 04070. | May 19, 2025 | 230052
Minnesota: Todd (FEMA Docket No.: B-2506). | City of Long Prairie (24-05-0435P). | The Honorable David Wright, Mayor, City of Long Prairie, 615 Lake Street South, Long Prairie, MN 56347. | City Hall, 615 Lake Street South, Long Prairie, MN 56347. | May 15, 2025 | 270479
North Carolina:
Buncombe (FEMA Docket No.: B-2510). | City of Asheville (23-04-6455P). | The Honorable Esther Manheimer, Mayor, City of Asheville, P.O. Box 7148, Asheville, NC 28802. | Stormwater Services and Utility, 161 South Charlotte Street, Asheville, NC 28801. | May 20, 2025 | 370032
Buncombe (FEMA Docket No.: B-2506). | City of Asheville (24-04-1389P). | The Honorable Esther Manheimer, Mayor, City of Asheville, P.O. Box 7148, Asheville, NC 28802. | Planning and Urban Design Department, 70 Court Plaza, Asheville, NC 28802. | Apr. 9, 2025 | 370032
Buncombe (FEMA Docket No.: B-2510). | Unincorporated areas of Buncombe County (23-04-6455P). | Amanda Edwards, Chair, Buncombe County Board of Commissioners, 200 College Street, Suite 300, Asheville, NC 28801. | Buncombe County Planning and Development Department, 46 Valley Street, Asheville, NC 28801. | May 20, 2025 | 370031
Buncombe (FEMA Docket No.: B-2506). | Unincorporated areas of Buncombe County (24-04-1389P). | Amanda Edwards, Chair, Buncombe County Board of Commissioners, 200 College Street, Suite 300, Asheville, NC 28801. | Buncombe County Planning and Development Department, 46 Valley Street, Asheville, NC 28801. | Apr. 9, 2025 | 370031
Cabarrus (FEMA Docket No.: B-2506). | City of Concord (24-04-4752P). | The Honorable William C. Dusch, Mayor, City of Concord P.O. Box 308, Concord, NC 28026. | GIS Division, 35 Cabarrus Avenue West, Concord, NC 28025. | Apr. 23, 2025 | 370037
Cabarrus. (FEMA Docket No.: B-2506). | City of Kannapolis (24-04-4752P). | The Honorable Darrell Hinnant, Mayor, City of, Kannapolis, 401 Laureate Way, Kannapolis, NC 28081. | City Hall, 401 Laureate Way, Kannapolis, NC 28081. | Apr. 23, 2025 | 370469
Mecklenburg (FEMA Docket No.: B-2506). | City of Charlotte (24-04-3395P). | The Honorable Vi Alexander Lyles, Mayor, City of Charlotte, 600 East 4th Street, Charlotte, NC 28202. | Mecklenburg County Stormwater Services Department, 2145 Suttle Avenue, Charlotte, NC 28208. | May 14, 2025 | 370159
Wake (FEMA Docket No.: B-2506). | Town of Apex (23-04-4722P). | The Honorable Jacques Gilbert, Mayor, Town of Apex, P.O. Box 250, Apex, NC 27502. | Engineering Department, 73 Hunter Street, Apex, NC 27502. | May 20, 2025 | 370467
Wake (FEMA Docket No.: B-2501). | Town of Wake Forest (24-04-4109P). | The Honorable Vivian A. Jones, Mayor, Town of Wake Forest, 301 South Brooks Street, Wake Forest, NC 27587. | Planning Department 301 South Brooks Street, 3rd Floor, Wake Forest, NC 27587. | Apr. 15, 2025 | 370244
South Carolina:
Berkeley (FEMA Docket No.: B-2510). | City of Charleston (24-04-4598P). | The Honorable William S. Cogswell, Jr., Mayor, City of Charleston, 80 Broad Street, Charleston, SC 29401. | Building Inspection Department, 2 George Street, Suite 2100, Charleston, SC 29401. | May 15, 2025 | 455412
Berkeley (FEMA Docket No.: B-2510). | Unincorporated areas of Berkeley County (24-04-4598P). | Johnny Cribb, Supervisor, Berkeley County Council, 1003 North Highway 52, Moncks Corner, SC 29461. | Berkeley County Building and Codes Enforcement, 1003 North Highway 52, Moncks Corner, SC 29461. | May 15, 2025 | 450029
Bexar (FEMA Docket No.: B-2514). | City of San Antonio (24-06-0080P). | The Honorable Ron Nirenberg, Mayor, City of San Antonio, P.O. Box 839966, San Antonio, TX 78283. | Department of Public Works, Storm Water Division, 1901 South Alamo Street, 2nd Floor, San Antonio, TX 78204. | May 12, 2025 | 480045
Collin (FEMA Docket No.: B-2514). | City of Parker (24-06-0090P). | The Honorable Lee Pettle, Mayor, City of Parker, 5700 East Parker Road, Parker, TX 75002. | Public Works Department, 5700 East Parker Road, Parker, TX 75002. | May 12, 2025 | 480139
Collin (FEMA Docket No.: B-2514). | City of Plano (24-06-0090P). | The Honorable John B. Muns, Mayor, City of Plano, 1520 K Avenue, Plano, TX 75074. | City Hall, 1520 K Avenue, Plano, TX 75074. | May 12, 2025 | 480140
Texas: Kaufman (FEMA Docket No.: B-2510). | City of Terrell (24-06-1969P). | The Honorable Rick Carmona, Mayor, City of Terrell, P.O. Box 310, Terrell, TX 75160. | City Hall, 201 East Nash Street, Terrell, TX 75160. | May 19, 2025 | 480416
Midland (FEMA Docket No.: B-2501). | Unincorporated areas of Midland County (24-06-2040P). | The Honorable Terry Johnson, Midland County Judge, 500 North Loraine Street, Suite 1100, Midland, TX 79701. | Midland County Public Works Department, 500 North Loraine Street, Suite 1100, Midland, TX 79701. | Apr. 30, 2025 | 481239
Tarrant (FEMA Docket No.: B-2506). | City of Fort Worth (23-06-2131P). | The Honorable Mattie Parker, Mayor, City of Fort Worth, 100 Fort Worth Trail, Fort Worth, TX 76102. | Department of Transportation and Public Works, Stormwater Management Division, 100 Fort Worth Trail, Fort Worth, TX 76102. | May 12, 2025 | 480596
Waller (FEMA Docket No.: B-2514). | City of Katy (25-06-0318P). | The Honorable William H. Thiele, Mayor, City of Katy, P.O. Box 617, Katy, TX 77493. | City Hall, 910 Avenue C, Katy, TX 77493. | May 27, 2025 | 480301

[FR Doc. 2025-13541 Filed 7-17-25; 8:45 am]

BILLING CODE 9110-12-P